DEPARTMENT OF THE INTERIOR

National Park Service

[NPS-WASO-NAGPRA-NPS0029400; PPWOCRADN0-PCU00RP14.R50000]

Notice of Intent To Repatriate Cultural Items: San Diego Museum of Man, San Diego, CA

AGENCY: National Park Service, Interior.

ACTION: Notice.

SUMMARY: The San Diego Museum of Man, in consultation with the appropriate Indian Tribes or Native Hawaiian organizations, has determined that the cultural items listed in this notice meet the definition of unassociated funerary objects. Lineal descendants or representatives of any Indian Tribe or Native Hawaiian organization not identified in this notice that wish to claim these cultural items should submit a written request to the San Diego Museum of Man. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the San Diego Museum of Man at the address in this notice by January 21, 2020.

ADDRESSES: Kara Vetter, Director of Cultural Resources, San Diego Museum of Man, 1350 El Prado, Balboa Park San Diego, CA 92101, telephone (619) 239-2001 Ext. 44, email kvetter@museumofman.org.

SUPPLEMENTARY INFORMATION: Notice is here given in accordance with the Native American Graves Protection and Repatriation Act (NAGPRA), 25 U.S.C. 3005, of the intent to repatriate cultural items under the control of the San Diego Museum of Man, San Diego, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Sometime in 1929, 27 cultural items were removed from site W-199 in San Diego County, CA. Malcolm J. Rogers conducted excavations on behalf of the San Diego Museum of Man in the vicinity of La Jolla, along El Paseo Grande during which a burial site containing the remains of one individual was investigated. The 27 unassociated funerary objects are: 13 chipped stone unworked flakes, three chipped stone core tools, two chipped stone cores, one chipped stone utilized flake, one chipped stone scraper, two chipped stone choppers, one unmodified shell, three soil samples, and one volcanic cobble. The human remains are not in the control of the San Diego Museum of Man.

Sometime in the 1930's and 1960's, 239 cultural items were removed from sites CA-SDI-5623 or W-202 and W-202A in San Diego County, CA, in the vicinity of Descanso Valley. Excavations conducted on two separate occasions by Malcolm J. Rogers, on behalf of the Museum of Man and Mrs. Dorothy McKenna, an independent relic hunter, documented the presence of two cremations. The cremains are currently in the control of McKenna. The 239 unassociated funerary objects are: Six unmodified faunal bone, seven ceramic decorated body sherds, 58 ceramic undecorated body sherd, three ceramic decorated rim sherds, 41 ceramic undecorated rim sherds, 13 ceramic other, six chipped stone biface, two chipped stone core, two chipped stone core tools, one chipped stone other, 58 chipped stone projectile points, five chipped stone scrapers, 17 chipped stone unworked flakes, one chipped stone utilized flake, three ecofact, five manos, two groundstone shaft straightener, three groundstone other, three modified shells, one unmodified shell, one battered stone, and one historic metal.

Sometime between 1933 and 1950, 95 cultural items were removed from sites CA-SDI-5 or W-207 and W-207A in San Diego County, CA, by Malcolm J. Rogers during excavations on behalf of the San Diego Museum of Man, in the vicinity of the San Pasqual State Monument Park. Rogers's field notes indicate that these sites comprised a cinerary urn cemetery that had been initially discovered by land-leasers in 1913. The 95 unassociated funerary objects are: 32 ceramic undecorated body sherds, 11 ceramic undecorated rim sherds, three chipped stone biface, one chipped stone chopper, one chipped stone core, one chipped stone core tool, eight chipped stone projectile points, two chipped stone unworked flake, two chipped stone utilized flake, six manos, one modified shell, two battered stone, 23 historical ceramic, and two historical glass. The human remains are not in the control of the San Diego Museum of Man.

Sites W-199, CA-SDI-5623 or (W-202 and W-202A) and CA-SDI-5 or (W-207 and W-207A) are all located within territory traditionally occupied by the Kumeyaay Nation, which is represented by the below listed Indian Tribes. Based on cultural resources collection research, geographic location, ethnographic information, oral history evidence and consultation, these unassociated funerary objects are identified as Kumeyaay.

Determinations Made by the San Diego Museum of Man

Officials of the San Diego Museum of Man have determined that:

• Pursuant to 25 U.S.C. 3001(3)(B), the 361 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation, (hereafter referred to as “The Tribes”).

Additional Requestors and Disposition

Lineal descendants or representatives of any Indian Tribe or Native Hawaiian organization not identified in this notice that wish to claim these cultural items should submit a written request with information in support of the claim to Kara Vetter, Director of Cultural Resources, San Diego Museum of Man, 1350 El Prado, Balboa Park San Diego, CA 92101, telephone (619) 239-2001 Ext. 44, email kvetter@museumofman.org, by January 21, 2020. After that date, if no additional claimants have come forward, transfer of control of the unassociated funerary objects to The Tribes may proceed.

The San Diego Museum of Man is responsible for notifying The Tribes that this notice has been published.

Dated: November 26, 2019.
Melanie O'Brien,
Manager, National NAGPRA Program.

[FR Doc. 2019-27489 Filed 12-19-19; 8:45 am]

BILLING CODE 4312-52-P